DEPARTMENT OF STATE

[Public Notice 3918]

Advisory Committee on International Law; Notice of Committee Renewal

The Department of State has renewed the Charter of the Advisory Committee on International Law. This advisory committee will continue to obtain the views and advice of a cross-section of the country's outstanding members of the legal profession on significant issues of international law. The committee's consideration of legal issues in the conduct of our foreign affairs provides a unique contribution to the creation and promotion of U.S. foreign policy. The Under Secretary for Management has determined that the committee is necessary and in the public interest.

The committee consists of former Legal Advisers of the Department of State and not more than twenty individuals appointed by the Legal Adviser of the Department of State. The committee will follow the procedures prescribed by the Federal Advisory Committee Act (FACA). Meetings will be open to the public unless a determination is made in accordance with section 10(d) of the FACA, 5 U.S.C. §§ 552b(c)(1) and (4), that a meeting or a portion of the meeting should be closed to the public. Notice of each meeting will be provided for publication in the Federal Register as far in advance as possible prior to the meeting.

For further information, please call: Mary Catherine Malin, Attorney-Adviser, Office of the Assistant Legal Adviser for United Nations Affairs, (202 647-2767).

Dated: March 29, 2002.
D. Stephen Mathias,
Assistant Legal Adviser for United Nations Affairs, Department of State.

[FR Doc. 02-9502 Filed 4-17-02; 8:45 am]

BILLING CODE 4710-08-P